NUCLEAR REGULATORY COMMISSION

[Docket No. 50-333; NRC-2020-0025]

Exelon Generation Company, LLC; James A. FitzPatrick Nuclear Power Plant

AGENCY: Nuclear Regulatory Commission.

ACTION: License amendment application; withdrawal by applicant.

SUMMARY: The U.S. Nuclear Regulatory Commission (NRC) has granted the request of Exelon Generation Company, LLC (the licensee) to withdraw its application dated September 5, 2019, as supplemented by letters dated November 6, 2019; February 21, 2020; and March 31, 2020, for a proposed amendment to Renewed Facility Operating License No. DPR-59 for the James A. FitzPatrick Nuclear Power Plant. The proposed amendment would have revised the allowable value for reactor water cleanup system primary containment isolation.

DATES: August 12, 2020.

ADDRESSES: Please refer to Docket ID NRC-2020-0025 or NRC Docket No. 50-333 when contacting the NRC about the availability of information regarding this document. You may obtain publicly-available information related to this document using any of the following methods:

• Federal Rulemaking Website: Go to https://www.regulations.gov and search for Docket ID NRC-2020-0025. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

FOR FURTHER INFORMATION CONTACT: Justin C. Poole, Office of Nuclear Reactor Regulation, U.S. Nuclear Regulatory Commission, Washington, DC 20555-0001; telephone: 301-415-2048, email: Justin.Poole@nrc.gov.

SUPPLEMENTARY INFORMATION: The NRC has granted Exelon Generation Company, LLC's, request dated July 28, 2020 (ADAMS Accession No. ML20210M333), to withdraw its application dated September 5, 2019, as supplemented by letters dated November 6, 2019; February 21, 2020; and March 31, 2020 (ADAMS Accession Nos. ML19248B085, ML19310D579, ML20052E056, and ML20091F513, respectively), for a proposed amendment to Renewed Facility Operating License No. DPR-59 for the James A. FitzPatrick Nuclear Power Plant located in Oswego County, New York.

The proposed amendment would have revised the allowable value for reactor water cleanup system primary containment isolation. The proposed amendment was noticed in the Federal Register on January 28, 2020 (85 FR 5053).

Dated: August 6, 2020.
For the Nuclear Regulatory Commission.
Richard V. Guzman,
Senior Project Manager, Plant Licensing Branch I, Division of Operating Reactor Licensing, Office of Nuclear Reactor Regulation.

[FR Doc. 2020-17554 Filed 8-11-20; 8:45 am]

BILLING CODE 7590-01-P